DEPARTMENT OF AGRICULTURE

Food and Nutrition Service

Agency Information Collection Activities: Proposed Collection; Comment Request—Study on Nutrition and Wellness Quality in Childcare Settings (SNAQCS)

AGENCY: Food and Nutrition Service (FNS), USDA.

ACTION: Notice.

SUMMARY: In accordance with the Paperwork Reduction Act of 1995, the Food and Nutrition Service (FNS) invites the general public and other public agencies to comment on this proposed information collection. This collection is a new collection for the Study on Nutrition and Wellness Quality in Childcare Settings (SNAQCS).

DATES: Written comments on this notice must be received on or before May 22, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Joseph F. Robare, Food and Nutrition Service, U.S. Department of Agriculture, 3101 Park Center Drive, Room 1004, Alexandria, VA 22302. Comments may also be submitted via fax to the attention of Joseph F. Robare at 703-305-2128 or via email to joseph.robare@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1004, Alexandria, Virginia 22302.

All responses to this notice will be summarized and included in the request for Office of Management and Budget approval. All comments will be a matter of public record.

FOR FURTHER INFORMATION CONTACT: Requests for additional information or copies of this information collection should be directed to Joseph F. Robare at 703-305-2128.

SUPPLEMENTARY INFORMATION: Title: Study on Nutrition and Wellness Quality in Childcare Settings (SNAQCS).

Form Number: N/A.

OMB Number: Not Yet Assigned.

Expiration Date: Not Yet Determined.

Type of Request: New Collection.

Abstract: Good nutrition is a key to proper childhood development, but not enough is known about the food children are eating in childcare and related programs. In 2011, 32.7 million children were in a regular childcare arrangement while their parents worked or pursued other activities outside of the home, according to the U.S. Census Bureau. In recognition of the importance of nutrition and physical activity in childcare, Congress directed the USDA to conduct a Study on Nutrition and Wellness Quality in Childcare Settings (SNAQCS) in Section 223 of the Healthy Hunger Free Kids Act (HHFKA) of 2010. The objectives set out by Congress encompass four broad topics: (1) Nutritional quality of foods offered, (2) physical activity, (3) sedentary activity, and (4) barriers to and facilitators of nutritional quality, physical activity, and participation by childcare centers and family day care homes in the Child and Adult Care Food Program (CACFP). For efficiency, USDA is coordinating the collection of other important variables with the section 223 data collection. The intent of the study is to document the quality of meals and snacks offered in childcare facilities, relative to the current Dietary Guidelines for Americans (DGA) which are prepared by USDA and the U.S. Department of Health and Human Services, and the types of activities that might promote or inhibit healthy weight and development. The study will also provide insights into how nutritional quality and physical activity in childcare might be improved. Lastly, the study will collect data on the costs of childcare meals and snacks in relationship to CACFP reimbursements, other funding, and meal quality.

The study will take place in the context of heightened concern about adequate nutrition, diet quality and obesity in young children. These concerns and developing knowledge about nutritional requirements for appropriate childhood growth, as reflected in the updated 2010 DGA, led the Institute of Medicine (IOM) Food and Nutrition Board to recommend new meal requirements for the CACFP in its 2010 report Child and Adult Care Food Program: Aligning Dietary Guidance for All. USDA recently published a proposed rule in the Federal Register to update the CACFP meal requirements based on these recommendations (January 15, 2015; 80 FR 2037). While USDA has not yet implemented new CACFP meal requirements, the IOM recommendations provide significant benchmarks for assessing current meal quality in the CACFP. Moreover, a comparison between current meal characteristics and the IOM recommendations suggests the extent of change that would be required to implement the IOM recommendations. The need for research to establish a baseline of current meal characteristics and quality in childcare settings is acknowledged in the IOM report, as are the challenges of technical assistance, monitoring, and cost that would come with the implementation of new meal requirements. The proposed study will directly address key research recommendations from the IOM report.

The study seeks to collect a broad range of data from a nationally representative sample which would include: (1) Sponsors, directors, food preparers and/or provider staff of childcare centers, family day care homes, and after-school programs that participate in the CACFP and those that do not participate in CACFP; and (2) children and parents of children receiving care from CACFP childcare centers, family day care homes, and after-school programs during 2015-2016. The sample is designed to provide required levels of statistical precision and data quality while minimizing data collection costs and respondent burden.

To address the study's three broad categories of research questions, the data collection activities to be undertaken subject to this notice will include the following surveys, forms, and interviews:

• Nutrition and wellness policies and practices in childcare settings:

○ Provider Web Survey

○ Menu Survey

○ Reference Portion Measurement Form

○ Table Waste Observation Form

• Child intake and weight status:

○ Child Food Diary (completed by parents)

○ Standing Height and Weight Form (collected by study staff)

○ Infant Food Intake Form

○ Parent Interview

• Cost of meals provided in CACFP childcare setting:

○ Sponsor Pre-visit Cost Survey

○ Sponsor Pre-visit Cost Form

○ Center Director Pre-visit Cost Survey

○ Sponsor Cost Interview

○ Center Director Cost Interview

○ Food Preparer Cost Interview

○ Overhead and Equipment Cost Worksheet

In addition, the study will include an Environmental Observation Form and a Meal Observation Form that will be completed by study staff and do not have any associated burden for study participants.

Affected Public: Respondent categories of affected public and the corresponding study participants will include: (a) Businesses (sample of childcare providers); and (b) individual/households (sample of children and their parents/guardians).

Estimated Number of Respondents: 12,472. The total proposed final number of unique respondents will include: (a) 3,753 sponsors, directors, food preparers and/or provider staff of childcare centers, family day care homes, and after-school childcare providers childcare that participate in the USDA Child and Adult Care Food Program (CACFP), and non-participating providers; (b) 3,000 children receiving care from CACFP childcare centers, family day care homes, and after-school programs; (c) 4,175 parents of children receiving care from CACFP childcare centers, family day care homes, and after-school childcare programs; and (d) 1,544 non-respondents.

Estimated Frequency of Responses per Respondent: 1.91 annually. All respondents will be asked to respond to or complete instruments as follows: (a) Sponsors will be asked to complete the Sponsor Pre-visit Cost Survey, the Sponsor Pre-visit Cost Form, and the Sponsor Cost Interview; (b) directors will be asked to complete the Provider Web Survey, the Center Director Pre-visit Cost Survey, the Center Director Cost Interview, and the Overhead & Equipment Cost Worksheet; (c) food preparers will be asked to complete the Menu Survey, the Reference Portion Measurement Form, the Table Waste Observation Form, and the Food Preparer Cost Interview; (d) provider staff will be asked to complete the Infant Food Intake Form; (e) children will be asked to cooperate with study staff who will weigh and measure them for the Standing Height and Weight Form; and (f) parents will be asked to complete a Parent Interview and the Child Food Diary for a childcare day, a non-childcare day, and a subsample will be asked to complete a third diary which could be either a childcare day or a non-childcare day. All respondents will be asked to respond to or complete each instrument only once with the exception of parents who will be asked to complete a Child Food Diary on 2-3 days.

Estimated Total Annual Responses: 23,767.

Estimated Time per Response: 35 minutes (0.59 hours). The estimated time of response varies from 4 minutes (0.07 hours) to 195 minutes (3.25 hours) depending on the respondent group, as shown in the table below. These estimates include time to read the initial materials as well as follow-up activities.

Estimated Total Annual Burden on Respondents: 13,945.99 hours. See the table below for estimated total annual burden for each type of respondent.

Affected public | Data collection activity | Respondents ᵃ | Estimated number of respondents | Frequency of response | Total annual responses | Average burden hours per response | Total annual burden hours estimate (hours)
Businesses ᵇ | Provider Web Survey | Non-respondents Directors | 352 1,539 | 1 1 | 352 1,539 | 0.07 1.00 | 24.64 1,539.00
Businesses ᵇ | Menu Survey (online) | Non-respondents Food preparers | 352 1,539 | 1 1 | 352 1,539 | 0.07 2.93 | 24.64 4,509.27
Businesses ᵇ | Reference Portion Measurement Form | Non-respondents Food preparers | 44 532 | 1 1 | 44 532 | 0.07 0.25 | 3.08 133.00
Businesses ᵇ | Table Waste Observation Form | Non-respondents Food preparers | 20 372 | 1 1 | 20 372 | 0.07 0.08 | 1.40 29.76
Businesses ᵇ | Infant Food Intake Form | Non-respondents Provider staff | 2 75 | 1 1 | 2 75 | 0.07 0.75 | 0.14 56.25
Businesses ᵇ | Sponsor Pre-visit Cost Survey | Non-respondents Sponsors | 143 600 | 1 1 | 143 600 | 0.07 0.17 | 10.01 102.00
Businesses ᵇ | Sponsor Pre-visit Cost Form | Non-respondents Sponsors | 143 600 | 1 1 | 143 600 | 0.07 0.17 | 10.01 102.00
Businesses ᵇ | Center Director Pre-visit Cost Survey | Non-respondents Directors | 143 600 | 1 1 | 143 600 | 0.07 0.25 | 10.01 150.00
Businesses ᵇ | Sponsor Cost Interview (inperson) | Non-respondents Sponsors | 143 600 | 1 1 | 143 600 | 0.07 3.25 | 10.01 1,950.00
Businesses ᵇ | Center Director Cost Interview (inperson) | Non-respondents Directors | 143 600 | 1 1 | 143 600 | 0.07 0.75 | 10.01 450.00
Businesses ᵇ | Food Preparer Cost Interview (inperson) | Non-respondents Food preparers | 143 600 | 1 1 | 143 600 | 0.07 0.5 | 10.01 300.00
Businesses ᵇ | Overhead & Equipment Cost Worksheet | Non-respondents Directors | 143 600 | 1 1 | 143 600 | 0.07 0.17 | 10.01 102.00
Subtotal Businesses |  |  | 4,602 | 2.18 | 10,028 | 0.95 | 9,547.25
Individuals/Households | Standing Height and Weight Form | Non-respondents Children (collected by on-site study staff) | 158 3,000 | 1 1 | 158 3,000 | 0.07 0.08 | 11.06 240.00
Individuals/Households | Child Food Diary (Childcare day) | Non-respondents Parents (reporting on children) | 315 2,685 | 1 1 | 315 2,685 | 0.07 0.50 | 22.05 1,342.50
Individuals/Households | Child Food Diary (Non-childcare day) | Non-respondents Parents (reporting on children) | 537 2,148 | 1 1 | 537 2,148 | 0.07 0.67 | 37.59 1,439.16
Individuals/Households | Child Food Diary (Third day) | Non-respondents Parents (reporting on children) | 85 416 | 1 1 | 85 416 | 0.07 0.58 | 5.95 241.28
Individuals/Households | Parent interview | Non-respondents Parents | 220 4,175 | 1 1 | 220 4,175 | 0.07 0.25 | 15.40 1,043.75
Subtotal Individuals/Households |  |  | 7,870 | 1.75 | 13,739 | 0.32 | 4,398.74
Grand Total |  |  | 12,472 | 1.91 | 23,767 | 0.59 | 13,945.99
Notes:
ᵃ In some cases, an alternate respondent may be called upon by the respondent to provide specific information to complete the data collection activity. For example, the director may need specific information from a staff person involved in food preparation in order to complete the section of the form asking about meal and snacks policies if he/she does not have this information.
ᵇ Most of the childcare providers that will be included in the study will be businesses, though some will be operated by school districts and thus are public. No data are currently available to allow us to determine the percent that are businesses and the percent that are public. Similar to our procedures for determining burden in other studies of this population, we have classified all providers as businesses.

Dated: March 17, 2015.
Audrey Rowe,
Administrator, Food and Nutrition Service.

[FR Doc. 2015-06592 Filed 3-20-15; 8:45 am]

BILLING CODE 3410-30-P